FEDERAL RETIREMENT THRIFT INVESTMENT BOARD

Sunshine Act; Notice of Meeting

Time and Date: 9 a.m. (Eastern Time), June 19, 2007.

Place: 4th Floor Conference Room, 1250 H Street, NW., Washington, DC 20005.

Status: Open.

Matters to be Considered: 1. Approval of the minutes of the May 22, 2007 Board member meeting.

2. Thrift Savings Plan activity report by the Executive Director.

a. Monthly Participant Activity Report.

b. Monthly Investment Performance Report.

c. Legislative Report.

3. Investment consultant report on the impact of legislative proposals that would impose investment restrictions on the I Fund.

4. Analysis and recommendations on automatic enrollment, changing the default fund, and establishing a Roth feature.

Contact Person for More Information: Thomas J. Trabucco, Director, Office of External Affairs, (202) 942-1640.

Dated: June 7, 2007.
Thomas K. Emswiler,
Secretary to the Board, Federal Retirement Thrift Investment Board.

[FR Doc. 07-2913 Filed 6-7-07; 4:36 pm]

BILLING CODE 6760-01-P